OFFICE OF PERSONNEL MANAGEMENT

5 CFR Part 532

RIN 3206-AN11

Prevailing Rate Systems; Abolishment of the Portland, ME, Appropriated Fund Federal Wage System Wage Area

AGENCY: U.S. Office of Personnel Management.

ACTION: Proposed rule with request for comments.

SUMMARY: The U.S. Office of Personnel Management (OPM) is issuing a proposed rule that would abolish the Portland, ME, appropriated fund Federal Wage System (FWS) wage area and redefine Androscoggin, Cumberland, and Sagadahoc Counties, ME, to the Portsmouth, NH survey area and Franklin and Oxford Counties, ME, and Coos County, NH, to the Portsmouth area of application. These changes are necessary because the closure of the Naval Air Station (NAS) Brunswick left the Portland wage area without an activity having the capability to conduct a local wage survey.

DATES: We must receive comments on or before January 8, 2015.

ADDRESSES: You may submit comments, identified by “RIN 3206-AN11,” using any of the following methods:

Federal eRulemaking Portal: http://www.regulations.gov. Follow the instructions for submitting comments.

Mail: Brenda L. Roberts, Deputy Associate Director for Pay and Leave, Employee Services, U.S. Office of Personnel Management, Room 7H31, 1900 E Street NW., Washington, DC 20415-8200.

Email: pay-leave-policy@opm.gov.

FOR FURTHER INFORMATION CONTACT: Madeline Gonzalez, by telephone at (202) 606-2838 or by email at pay-leave-policy@opm.gov.

SUPPLEMENTARY INFORMATION: The Portland, ME, FWS wage area's host installation, NAS Brunswick, closed in May 2011. This closure left the lead agency, the Department of Defense (DOD), without an installation capable of hosting annual local wage surveys. Because of the closure of NAS Brunswick, DOD has requested that OPM abolish the Portland wage area and redefine its constituent counties to a neighboring wage area.

The Portland wage area is presently composed of three survey counties (Androscoggin, Cumberland, and Sagadahoc Counties, ME) and three area of application counties (Franklin and Oxford Counties, ME, and Coos County, NH). The next full-scale wage schedule is scheduled to begin in the Portland wage area in May 2015.

Under section 5343 of title 5, United States Code, OPM is responsible for defining wage areas following the regulatory criteria under section 532.211 of title 5, Code of Federal Regulations. Under the regulatory criteria, OPM considers the following factors when defining FWS wage area boundaries:

(i) Distance, transportation facilities, and geographic features;

(ii) Commuting patterns; and

(iii) Similarities in overall population, employment, and the kinds and sizes of private industrial establishments.

In addition, OPM regulations at 5 CFR 532.211 do not permit splitting Metropolitan Statistical Areas (MSAs) for the purpose of defining a wage area, except in very unusual circumstances.

Cumberland, Sagadahoc, and York Counties, ME, comprise the Portland-South Portland, ME MSA. The Portland-South Portland MSA is split between the Portland and Portsmouth wage areas. Cumberland and Sagadahoc Counties are part of the Portland survey area and York County is part of the Portsmouth survey area.

Based on an analysis of the regulatory criteria for York County, the core county in the Portland-South Portland MSA, the entire Portland-South Portland MSA would be defined to the Portsmouth wage area. When measuring to cities and host installations, the distance criterion favors the Portsmouth wage area. The commuting patterns criterion favors the Portsmouth wage area. The overall population and employment and the kinds and sizes of private industrial establishments criterion does not favor one wage area more than another.

Based on this analysis, we believe York County is appropriately defined to the Portsmouth wage area. OPM regulations at 5 CFR 532.211 permit splitting MSAs only in very unusual circumstances. There appear to be no unusual circumstances that would permit splitting the Portland-South Portland MSA. To comply with OPM regulations not to split MSAs, Cumberland and Sagadahoc Counties would be redefined to the Portsmouth wage area.

In selecting a wage area to which the remaining counties should be redefined, the Federal Prevailing Rate Advisory Committee (FPRAC), the statutory national labor-management committee responsible for advising OPM on matters affecting the pay of FWS employees, made a majority recommendation to define the entire wage area to the Portsmouth wage area.

These changes would be effective on the first day of the first applicable pay period beginning on or after 30 days following publication of the final regulations.

Regulatory Flexibility Act

I certify that these proposed regulations would not have a significant economic impact on a substantial number of small entities because they would affect only Federal agencies and employees.

List of Subjects in 5 CFR Part 532

Administrative practice and procedure, Freedom of information, Government employees, Reporting and recordkeeping requirements, Wages.

U.S. Office of Personnel Management.
Katherine Archuleta,
Director.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix A to subpart B of part 532 is amended for the State of Maine by removing the entry for Portland.

3. Appendix C to subpart B is amended by removing the wage area listing for Portland, ME, and revising the wage area listings for Portsmouth, NH, wage areas to read as follows:

* * * * *

NEW HAMPSHIRE

Portsmouth

Survey Area

Maine:

Androscoggin

Cumberland

Sagadahoc

York

Massachusetts:

The following cities and towns in:

Essex County

Amesbury

Georgetown

Groveland

Haverhill

Merrimac

Newbury

Newburyport

North Andover

Salisbury

South Byfield

West Newbury

New Hampshire:

Rockingham (except the following cities and towns: Newton, Plaistow, Salem, and Westville)

Strafford

Area of Application. Survey area plus:

Maine:

Franklin

Oxford

New Hampshire:

Coos

The following cities and towns in:

Rockingham County

Newton

Plaistow

Salem

Westville

* * * * *

[FR Doc. 2014-28619 Filed 12-8-14; 8:45 am]

BILLING CODE 6325-39-P